SMALL BUSINESS ADMINISTRATION

[Disaster Declaration # 11607 and # 11608]

Massachusetts Disaster Number MA-00020

AGENCY: U.S. Small Business Administration.

ACTION: Amendment 1.

SUMMARY: This is an amendment of the Presidential declaration of a major disaster for Public Assistance Only for the Commonwealth of Massachusetts (FEMA-1813-DR), dated 01/05/2009.

Incident: Severe Winter Storm and Flooding.

Incident Period: 12/11/2008 and continuing.

DATES: Effective Date: 01/16/2009.

Physical Loan Application Deadline Date: 03/06/2009.

Economic Injury (EIDL) Loan Application Deadline Date: 10/05/2009.

ADDRESSES: Submit completed loan applications to: U.S. Small Business Administration, Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the Commonwealth of Massachusetts, dated 01/05/2009, is hereby amended to include the following areas as adversely affected by the disaster.

Primary Counties: Essex, Middlesex.

All other information in the original declaration remains unchanged.

(Catalog of Federal Domestic Assistance Numbers 59002 and 59008)

Herbert L. Mitchell,
Associate Administrator for Disaster Assistance.

[FR Doc. E9-1963 Filed 1-29-09; 8:45 am]

BILLING CODE 8025-01-P